DEPARTMENT OF TRANSPORTATION

Federal Aviation Administration

Notice of Intent To Rule on Request To Release Airport Property at the Ocean County Airport, Toms River, New Jersey

AGENCY: Federal Aviation Administration (FAA) DOT.

ACTION: Notice of request to release airport property.

SUMMARY: The FAA proposes to rule and invite public comment on the release of land at the Ocean County Airport, Toms River, New Jersey under the provision 49 U.S.C. 47125(a). The request consists of a permanent release of six (6) parcels of land (145.90 acres) that are no longer needed for aeronautical purposes. Parcels 1 & 3 are located within Lacey Township and Parcels 2, 4, 5 & 6 are located within Berkeley Township. The County of Ocean will obtain Fair Market Value (FMV) rate in the form (reimbursement) of financial contribution made directly by County to the airport. The County has demonstrated its financial contribution to the airport of the parcels to be released, which has been expended for on airport operations and development over a six-year period (2006-2011). Therefore, no funds will change hands for the release of these parcels from aeronautical purposes.

DATES: Comments must be received on or before April 9, 2014.

ADDRESSES: Comments on this application may be mailed or delivered to the following address:

David J McKeon, Planning Director, Ocean County Airport, Ocean County Planning Board,, P. O. Box 2191, Toms, River, New Jersey 08754-2191, 732-929-2054

and at the FAA Harrisburg Airports District Office:

Lori K. Pagnanelli, Manager, Harrisburg Airports District Office, 3905 Hartzdale Dr., Suite 508, Camp Hill, PA 17011, (717) 730-2830.

FOR FURTHER INFORMATION CONTACT: Rick Harner, Project Manager, Harrisburg Airports District Office, location listed above.

The request to release property may be reviewed in person at this same location.

SUPPLEMENTARY INFORMATION: The FAA invites public comment on the request to release property at the Ocean County Airport under the provisions of Section 47125(a) of Title 49 U.S.C. On March 10, 2014, the FAA determined that the request to release property at the Ocean County Airport (MJX), New Jersey, submitted by the County of Ocean, met the procedural requirements.

The following is a brief overview of the request: The County of Ocean requests the release of real property totaling 145.90 acres to the County of Ocean for use as non-aeronautical land with the exception of granting an easement right of way on Parcels 3 and 4 as defined below. Land release of Parcel 1 (Highway Department vehicle storage and maintenance) consists of 14.22 acres located within the Township of Lacey. The parcel is bounded by Lacey Township line on the east and the existing airport property line on the west and north and extends to the southerly boundary of existing Mule Road on the south. Land release of Parcel 2 (County Fairgrounds) consists of 103.77 acres located within the Township of Berkeley. This parcel extends easterly from Berkeley Township line on the west to the west ROW of Pinewald-Keswick Road. The parcel is bounded by the existing airport property line on the north and extends to the southerly boundary of existing Mule Road on the south. Land release of Parcel 5 (Public Safety Building) consists of 5.38 acres located within the Township of Berkeley. This parcel is bounded on the north by the south boundary of existing Mule Road; on the west at 20 feet east of the centerline of the existing airport access road; and on the south and east sides following between two airport fence lines. Land release of Parcel 6 (Vacant land—south side of Mule Rd/Route 530 intersection) consists of 3.27 acres located within the Township of Berkeley. The perimeter of this parcel follows ten feet inside the existing fence line of the parcel (landside). The parcel is bounded by the southerly boundary of existing Mule Road on the north; and bounded by the westerly boundary of Pinewald-Keswick Road on the east. The south line of the parcel is the westerly extension of the northerly airport property line located easterly of Pinewald-Keswick Road.

The County of Ocean also requests the release of real property totaling 19.26 acres in addition to the granting of an access easement right of way on same parcels for use as spoil storage area and a dog park. Parcel 3 (Highway Department Spoil Area) consists of 16.52 acres located within the Township of Lacey. The parcel consists of a rectangular parcel 1200 feet long by 600 feet wide adjacent and at right angles to the Lacey Township line. The east corner of the parcel is located 145 feet southeast of the centerline of the existing sand entry road to the spoil area. Parcel 4 (Dog Park) consists of 2.74 acres located within the Township of Berkeley. The perimeter of this parcel is located 10 feet outside of the existing dog park fence line. The south line of the parcel is 20 feet north of the centerline of the existing airport access road pavement. As shown on the Airport Layout Plan (ALP), the above describe properties do not serve an aeronautical purpose and are not needed for airport development.

No AIP funds were used to purchase the parcels to be released. All of the parcels were acquired through either condemnation or fee simple purchase with County funds. The ALP will be updated to show the new airport property boundary. The airport property will be released to the County and will remain County owned.

Any person may inspect the request by appointment at the FAA office address listed above. Interested persons are invited to comment on the proposed lease. All comments will be considered by the FAA to the extent practicable.

Issued in Camp Hill, Pennsylvania, February 28, 2014.
Lori K. Pagnanelli,
Manager, Harrisburg Airports District Office.

[FR Doc. 2014-05148 Filed 3-7-14; 8:45 am]

BILLING CODE 4910-13-P